DEPARTMENT OF TRANSPORTATION

Federal Aviation Administration

14 CFR Part 71

[Docket No. FAA-2025-1159; Airspace Docket No. 25-AGL-5]

RIN 2120-AA66

Amendment of VOR Federal Airway V-300; Northcentral United States

AGENCY: Federal Aviation Administration (FAA), DOT.

ACTION: Final rule.

SUMMARY: This action amends Very High Frequency Omnidirectional Range (VOR) Federal Airway V-300 due to the relocation of the Wiarton, Ontario (ON), Canada, VOR/Distance Measuring Equipment (VOR/DME) navigational aid (NAVAID). This action is in support of NAV CANADA's NAVAID Modernization Program.

DATES: Effective date 0901 UTC, March 19, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System as necessary to preserve the safe and efficient flow of air traffic.

History

The FAA published an NPRM for Docket No. FAA-2025-0141 in the Federal Register (90 FR 25173; June 16, 2025), proposing to amend VOR Federal Airway V-300 due to the planned relocation of the Wiarton, ON, Canada, VOR/DME NAVAID. Interested parties were invited to participate in this rulemaking effort by submitting written comments on the proposal. One comment was received.

The commenter suggested the FAA validate the 25-AGL-5 Airspace Docket Number used in the NPRM to ensure it was correct. The commenter also suggested validating the distance of the Wiarton, ON, Canada, VOR/DME relocation that was published in the NPRM. Additionally, the commenter offered that the magnetic radial (called bearings in the comment) values listed to describe the RIBIR, IILND, and MRUCI fixes in the V-300 description in the NPRM were incorrect and should have been lower than the companion true radials they were listed with instead of being larger. Finally, the commenter stated the CFNKB computer navigation fix (CNF) on the United States (U.S.)/Canada border that was listed in the NPRM should have been spelled CYNKB as contained in FAA Order JO 7400.11 and on the Detroit sectional.

The FAA reviewed each of the items raised by the commenter and offers the following in response. The 25-AGL-5 Airspace Docket Number was assigned by the Central Service Center, Operations Support Group in accordance with FAA Order JO 7400.2 and was determined to be correct as published in the NPRM.

With respect to the distance the Wiarton, ON, Canada, VOR was relocated, the FAA received the geographic latitude and longitude coordinates from NAV CANADA for the original and new locations of the VOR. Upon review, the distance of the VOR relocation was calculated to be just over 135 feet West-Southwest from the original location instead of approximately 80 feet West of the original location as specified in the NPRM. That information has been updated.

In determining the true and magnetic radials for the RIBIR, IILND, and MRUCI fixes in the V-300 description, the FAA used the most recent magnetic variation values associated with the Sault Ste Marie, MI, VOR/DME and the Pellston, MI, VOR/Tactical Air Navigation (VORTAC) NAVAIDs. The magnetic variation for the Sault Ste Marie VOR/DME is 4° West and for the Pellston VORTAC is 6° West. When calculating magnetic radials using counterpart true radials, West magnetic variation values are added to the true radial value; whereas East magnetic variation values are subtracted from the true radial value. The true and magnetic radials listed for the RIBIR, IILND, and MRUCI fixes in the V-300 description in the NPRM were correct as published. However, for awareness, the FAA only publishes true radial values in final rules.

Lastly, the FAA verified that the CFNKB CNF located on the U.S./Canada border was spelled correctly in the NPRM and matches the CNF information currently contained in the FAA's National Airspace System Resource database and as published on the IFR Enroute Low Altitude L-31 chart. CNFs are not published in FAA Order JO 7400.11 or on sectional charts.

Incorporation by Reference

VOR Federal Airways are published in paragraph 6010(a) of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by amending VOR Federal Airway V-300 due to the planned relocation of the Wiarton, ON, Canada, VOR/DME by NAV CANADA as part of its NAVAID Modernization Program. The airway action is described below.

V-300: Prior to this final rule, V-300 extended between the Sault Ste Marie, MI, VOR/DME and the Wiarton, ON, Canada, VOR/DME, excluding the airspace within Canada. The airway is amended to only describe the two airway segments that lie within U.S. airspace. The first segment extends between the Sault Ste Marie, MI, VOR/DME and the intersection of the Sault Ste Marie VOR/DME 125° and Pellston, MI, VORTAC 029° radials (RIBIR Fix). The second segment extends between the intersection of the Sault Ste Marie VOR/DME 125° and Pellston VORTAC 054° radials (IILND Fix), replacing the “CFNKB” CNF on the U.S./Canada border, and the intersection of the Sault Ste Marie VOR/DME 125° and Pellston VORTAC 067° radials (MRUCI Fix), replacing the “MKPDG” CNF on the U.S./Canada border. The two airway segments within U.S. airspace will continue to provide route continuity and cross-border connectivity with the V-300 airway segments being established by NAV CANADA within Canadian airspace.

The NAVAID radials listed in the VOR Federal Airway V-300 description above and in the regulatory text of this final rule are stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending Very High Frequency Omnidirectional Range (VOR) Federal Airway V-300 qualifies for categorical exclusion under the National Environmental Policy Act (42 U.S.C. 4321, et seq.) and in accordance with FAA Order 1050.1G, FAA National Environmental Policy Act Implementing Procedures, paragraph B-2.5.(a) of FAA's NEPA implementation policy and procedures which categorically excludes from further environmental impact review rulemaking actions that designate or modify classes of airspace areas, airways, routes, and reporting points (see 14 CFR part 71, Designation of Class A, B, C, D, and E Airspace Areas; Air Traffic Service Routes; and Reporting Points); and section B-2.5.(k), which categorically excludes from further environmental impact review publication of existing air traffic control procedures that do not essentially change existing tracks, create new tracks, change altitude, or change the concentration of aircraft on these tracks. As such, this action is not expected to result in any potentially significant environmental impacts. In accordance with the FAA's NEPA implementation policy and procedures regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 6010(a) VOR Federal Airways.

* * * * *

V-300 [Amended]

From Sault Ste Marie, MI; to INT Sault Ste Marie 125° and Pellston, MI, 029° radials. From INT Sault Ste Marie 125° and Pellston 054° radials; to INT Sault Ste Marie 125° and Pellston 067° radials.

* * * * *

Issued in Washington, DC, on December 19, 2025.
Glenn L. Sigley,
Acting Manager, Rules and Regulations Group.

[FR Doc. 2025-23739 Filed 12-22-25; 8:45 am]

BILLING CODE 4910-13-P